ENVIRONMENTAL PROTECTION AGENCY

[FRL-7230-3]

EPA Science Advisory Board; Notification of Public Advisory Committee Meetings

Pursuant to the Federal Advisory Committee Act, Public Law 92-463, notice is hereby given of a conference call meeting of a Panel of the US EPA Science Advisory Board (SAB). The Panel will meet on the date and time noted below. All times noted are Eastern Time. The meeting is open to the public, however, seating is limited and available on a first come basis. For teleconference meetings, available lines may also be limited. Important Notice: Documents that are the subject of SAB reviews are normally available from the originating EPA office and are not available from the SAB Office—information concerning availability of documents from the relevant Program Office is included below.

The Multi-Agency Radiological Laboratory Analytical Protocols (MARLAP) Review Panel of the Radiation Advisory Committee (RAC) of the US EPA Science Advisory Board (SAB) (also referred to as the “Review Panel,” or “Panel”) will meet on Thursday, June 27, 2002 via teleconference from 11 a.m. to 1 p.m. Eastern Standard Time. This public conference call meeting will be hosted out of Conference Room 6013, USEPA, Ariel Rios Building North, 1200 Pennsylvania Avenue, NW., Washington, DC 20004. The meeting is open to the public, however, due to limited space, seating will be on a first-come basis. The public may also attend via telephone, however, lines may be limited. For further information concerning the meeting or how to obtain the phone number, please contact the individuals listed at the end of this FR notice.

Purpose of the Meeting—The purpose of this public conference call meeting is to conduct edits to the draft MARLAP Advisory. This draft will likely not be a public draft at this stage of the process. This public conference call meeting is a follow-up to the public conference call held April 8, 2002 and the public meeting held April 23-25, 2002 in Washington, DC. For information and background on this review, including the two previous public meetings, and the specific the charge to the MARLAP Review Panel, please refer to 67 FR 11328-11330, which was published on March 13, 2002. This public conference call meeting of the Review Panel will provide focus on the edits necessary to prepare a public (i.e., consensus) draft. It is anticipated that shortly after this meeting, a public draft will be prepared and reviewed for closure either July 30, 31 and August 1, or September 24-26, 2002. A separate public notice will be made of whatever meeting date is selected by the Panel during the June 27 conference call discussions.

The need for subsequent meetings of the MARLAP Review Panel will be discussed at this meeting and schedules of any future meetings to complete review of this topic will be discussed. Information concerning any future public meetings will appear in Federal Register notices as appropriate. See below for availability of review materials, the charge to the review panel, and contact information.

Please refer to the previous Federal Register notice (see above) for availability of review materials and the charge to the review panel.

For Further Information—Any member of the public wishing further information concerning this meeting or who wish to submit brief oral comments must contact Dr. K. Jack Kooyoomjian, Designated Federal Officer, MARLAP, USEPA Science Advisory Board (1400A), Suite 6450, 1200 Pennsylvania Avenue, NW, Washington, DC 20460; telephone/voice mail at (202) 564-4557; fax at (202) 501-0582; or via e-mail at kooyoomjian.jack@epa.gov. Requests for oral comments must be in writing (e-mail, fax or mail) and received by Dr. Kooyoomjian no later than noon Eastern Time five business days prior to the meeting date (June 20, 2002). See below for time limitations on public comments.

Members of the public desiring additional information about the meeting locations or the call-in number for the teleconference, must contact Ms. Mary Winston, Management Assistant, MARLAP, EPA Science Advisory Board (1400A), Suite 6450, U.S. EPA, 1200 Pennsylvania Avenue, NW., Washington, DC 20460; telephone/voice mail at (202) 564-4538; fax at (202) 501-0582; or via e-mail at winston.mary@epa.gov.

A copy of the draft agenda for the meeting will be posted on the SAB Website (www.epa.gov/sab) (under the AGENDAS subheading) approximately 10 days before the meeting.

Providing Oral or Written Comments at SAB Meetings

It is the policy of the EPA Science Advisory Board to accept written public comments of any length, and to accommodate oral public comments whenever possible. The EPA Science Advisory Board expects that public statements presented at its meetings will not be repetitive of previously submitted oral or written statements. Oral Comments: In general, each individual or group requesting an oral presentation at a face-to-face meeting will be limited to a total time of ten minutes (unless otherwise indicated). For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the review panel for their consideration. Comments should be supplied to the appropriate DFO at the address/contact information noted above in the following formats: one hard copy with original signature, and one electronic copy via e-mail (acceptable file format: Adobe Acrobat, WordPerfect, Word, or Rich Text files (in IBM-PC/Windows 95/98 format). Those providing written comments and who attend the meeting are also asked to bring 35 copies of their comments for public distribution.

General Information—Additional information concerning the EPA Science Advisory Board, its structure, function, and composition, may be found on the SAB Website (http://www.epa.gov/sab) and in The FY2001 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact Dr. Kooyoomjian at least five business days prior to the meeting so that appropriate arrangements can be made.

Dated: June 5, 2002.
A. Robert Flaak,
Acting Deputy Staff Director, EPA Science Advisory Board.

[FR Doc. 02-14766 Filed 6-11-02; 8:45 am]

BILLING CODE 6560-50-P